DEPARTMENT OF HEALTH AND HUMAN SERVICES

Agency for Healthcare Research and Quality

Agency Information Collection Activities: Proposed Collection; Comment Request

AGENCY: Agency for Healthcare Research and Quality, HHS.

ACTION: Notice.

SUMMARY: This notice announces the intention of the Agency for Healthcare Research and Quality (AHRQ) to request that the Office of Management and Budget (OMB) approve the reinstatement with change of the currently approved information collection project “Online Application Order Form for Products from the Healthcare Cost and Utilization Project (HCUP),” OMB #0935-0206. This information collection was previously published in the Federal Register on April 30, 2025 and allowed 60 days for public comment. AHRQ received no comments from members of the public. The purpose of this notice is to allow an additional 30 days for public comment.

DATES: Comments on this notice must be received by October 10, 2025.

ADDRESSES: Written comments and recommendations for the proposed information collection should be sent within 30 days of publication of this notice to www.reginfo.gov/public/do/PRAMain. Find this particular information collection by selecting “Currently under 30-day Review—Open for Public Comments” or by using the search function. Copies of the proposed collection plans, data collection instruments, and specific details on the estimated burden can be obtained from the AHRQ Reports Clearance Officer.

FOR FURTHER INFORMATION CONTACT: Margie Shofer, AHRQ Reports Clearance Officer, 301-427-1696 or by email at REPORTSCLEARANCEOFFICER@ahrq.hhs.gov.

SUPPLEMENTARY INFORMATION:

Proposed Project

Online Application Order Form for Products From the Healthcare Cost and Utilization Project (HCUP)

The Healthcare Cost and Utilization Project is a vital resource helping AHRQ achieve its research agenda, thereby furthering its goal of improving the delivery of health care in the United States. HCUP is a family of health care databases developed through a Federal-State-Industry partnership and sponsored by AHRQ. HCUP includes the largest collection of longitudinal hospital care data in the United States, with all-payer, encounter-level information beginning in 1988. The HCUP databases are annual files that contain anonymous information from hospital discharge records for inpatient care and certain components of outpatient care, such as emergency care and ambulatory surgeries.

The project currently creates eight types of restricted access public release databases and related files that are released to authorized users under the terms of the HCUP Data Use Agreement (DUA). These HCUP databases and files are used by researchers for a broad range of health issues, including cost and quality of health services, medical practice patterns, access to health care programs, and outcomes of treatments at the national, State, and local market levels.

This project has the following goal:

• Allow restricted access public release and tracking of the eight HCUP databases.

To achieve this goal the following data collections and activities are required:

1. HCUP DUA Training Course—All purchasers and users of HCUP data must complete this training prior to signing the DUA. This Web-based training course outlines important terms of the DUA. The purpose of the course is to emphasize the importance of data protection, reduce the risk of inadvertent violations, and describe an individual's responsibility when using HCUP data. After completing the training course, an HCUP DUA Training Course certification code is received. This code is required to purchase or gain access to HCUP data.

2. HCUP DUA for the Nationwide Databases—The HCUP Nationwide databases include the National (Nationwide) Inpatient Sample (NIS), Kids' Inpatient Database (KID), Nationwide Ambulatory Surgery Sample (NASS), Nationwide Emergency Department Sample (NEDS), and Nationwide Readmissions Database (NRD). Any person seeking permission from AHRQ to access HCUP Nationwide Databases must sign and submit this Agreement to AHRQ.

3. HCUP DUA for the State Databases—The HCUP State databases include the State Inpatient Databases (SID), State Ambulatory Surgery and Services Databases (SASD), and State Emergency Department Databases (SEDD). Any person seeking permission from AHRQ to access HCUP State Databases must sign and submit this Agreement to AHRQ.

4. Online Application Form—The application form collects relevant applicant information, shipping and billing address, and the payment method.

This project is being conducted by AHRQ through its contractors, National Opinion Research Center and TurningPoint-DS Federal J.V., L.L.C., pursuant to AHRQ's statutory authority to conduct and support research on health care and on systems for the delivery of such care, including activities with respect to the outcomes, cost, cost-effectiveness, and use of health care services and access to such services. 42 U.S.C 299a(a)(3).

Proposed Revisions:

Revisions include a redesigned HCUP application form and reducing the number of DUAs to one state and one nationwide version. The current expiration date for 0935-0206 was 5/31/2025 and AHRQ is requesting a new expiration date, 3 years from approval of this information collection request.

Method of Collection

Information collected in the HCUP Online Application Form process will be used for two purposes only:

1. Business Transaction: In order to deliver the HCUP databases to the applicants, contact information is necessary for shipping the data on disk (or any other media used in the future) and payment collection.

2. Enforcement of the HCUP Data Use Agreement (DUA): The HCUP DUA contains several restrictions on use of the data. Most of these restrictions have been put in place to safeguard the privacy of individuals and establishments represented in the data. For example, data users can only use the data for research, analysis, and aggregate statistical reporting and are prohibited from attempting to identify any persons in the data. Contact information on HCUP DUAs is retained in the event that a violation of the HCUP DUA takes place requiring legal remedy.

Estimated Annual Respondent Burden

Exhibit 1 shows the estimated annualized burden associated with the applicants' time to order any of the HCUP databases. An estimated 1,800 persons will order HCUP data annually. To complete the ordering process, each of these persons will complete the HCUP DUA Training Course, review and sign both DUAs, and complete the HCUP Data Purchase Ordering Form. The total burden to complete these four steps to purchase HCUP data is estimated to be 1,050 hours annually.

Exhibit 2 shows the estimated annualized cost burden associated with the applicants' time to purchase HCUP data. There are changes in the total burden cost as per Exhibit 2 in the 60 Day FRN due to a transcription error, a new requirement to base cost burden on adjusted hourly wages and updating wages to the most recent available estimates (from May 2023 to May 2024). These changes resulted in the cost burden increasing from $78,252 to $102,921.

Exhibit 1—Estimated Annualized Burden Hours
Form name | Number of respondents | Number of responses per respondent | Hours per response | Total burden hours
1. HCUP DUA Training Course | 1,800 | 1 | 15/60 | 450
2. HCUP DUA for the Nationwide Databases | 1,800 | 1 | 5/60 | 150
3. HCUP DUA for the State Databases | 1,800 | 1 | 5/60 | 150
4. HCUP Data Purchase Ordering Form | 1,800 | 1 | 10/60 | 300
Total | 1,800 | NA | NA | 1,050

Exhibit 2—Estimated Annualized Cost Burden
| Total burden hours | Average hourly wage rate * | Adjusted hourly wage rate ** | Total cost burden
1. HCUP DUA Training Course | 450 | $49.01 | $98.02 | $44,109
2. HCUP DUA for the Nationwide Databases | 150 | 49.01 | 98.02 | 14,703
3. HCUP DUA for the State Databases | 150 | 49.01 | 98.02 | 14,703
4. HCUP Data Purchase Ordering Form | 300 | 49.01 | 98.02 | 29,406
Total | 1,050 | NA | NA | 102,921
* Based upon the mean of the average wages for Life Scientists, All Other (19-1099), National Compensation Survey: Occupational Employment Statistics, May 2024 National Occupational Employment and Wage Estimates United States, U.S. Department of Labor, Bureau of Labor Statistics. https://data.bls.gov/oes/#/industry/000000.
** The Adjusted Hourly Rate was estimated at 200% of the hourly wage.

Request for Comments

In accordance with the Paperwork Reduction Act, 44 U.S.C. 3501-3520, comments on AHRQ's information collection are requested with regard to any of the following: (a) whether the proposed collection of information is necessary for the proper performance of AHRQ's health care research and health care information dissemination functions, including whether the information will have practical utility; (b) the accuracy of AHRQ's estimate of burden (including hours and costs) of the proposed collection(s) of information; (c) ways to enhance the quality, utility and clarity of the information to be collected; and (d) ways to minimize the burden of the collection of information upon the respondents, including the use of automated collection techniques or other forms of information technology.

Comments submitted in response to this notice will be summarized and included in the Agency's subsequent request for OMB approval of the proposed information collection. All comments will become a matter of public record.

Dated: September 5, 2025.
Mamatha Pancholi,
Deputy Director.C

[FR Doc. 2025-17323 Filed 9-9-25; 8:45 am]

BILLING CODE 4160-90-P